FEDERAL COMMUNICATIONS COMMISSION

Deletion of Items From Sunshine Act Meeting

July 14, 2016.

The following consent agenda has been deleted from the list of items scheduled for consideration at the Thursday, July 14, 2016, Open Meeting and previously listed in the Commission's Notice of July 7, 2016. The consent agenda has been adopted by the Commission.

* * * * *

Consent Agenda

The Commission will consider the following subjects listed below as a consent agenda and these items will not be presented individually:

1. General Counsel: Title: William J. Kirsch Request for Inspection of Records (FOIA Control No. 2015-368).

Summary: The Commission will consider a Memorandum Opinion and Order concerning the application for review filed by William J. Kirsch regarding a decision of the International Bureau's fee estimate for processing his Freedom of Information Act (FOIA) request.

Federal Communications Commission.
Marlene H. Dortch,
Secretary.

[FR Doc. 2016-17181 Filed 7-18-16; 11:15 am]

BILLING CODE 6712-01-P